DEPARTMENT OF JUSTICE

Notice of Lodging of Proposed Consent Decree Under the Clean Water Act and the Clean Air Act

On September 25, 2014, the Department of Justice lodged with the United States District Court for the Southern District of Iowa a proposed Consent Decree in United States v. Griffin Pipe Products Co., LLC, Civil Action No. 1:14-cv-00027-JAJ-RAW.

This civil action asserts claims for civil penalties and other appropriate relief against Griffin Pipe Products Co., LLC for alleged violations of the Clean Air Act, 42 U.S.C. 7410, and the Iowa State Implementation Plan adopted thereunder, and the Clean Water Act, 33 U.S.C. 1311, 1317, 1318, and 1342, at the Defendant's facility located in Council Bluffs, Iowa. To resolve the United States' claims Defendant will pay a civil penalty of $950,000 and implement other appropriate mitigation measures.

The publication of this notice opens a period for public comment on the Consent Decree. Comments should be addressed to the Assistant Attorney General, Environment and Natural Resources Division, and should refer to United States v. Griffin Pipe Products Co., LLC, Civil Action No. 1:14-cv-00027-JAJ-RAW, DJ Reference Number 90-5-2-1-10126.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library,

U.S. DOJ—ENRD,

P.O. Box 7611,

Washington, DC 20044-7611.

Please enclose a check or money order for $ 5.50 (25 cents per page reproduction cost) payable to the United States Treasury.

Susan M. Akers,
Assistant Section Chief, Environmental Enforcement Section, Environment and Natural Resources Division.

[FR Doc. 2014-23679 Filed 10-3-14; 8:45 am]

BILLING CODE 4410-15-P